DEPARTMENT OF VETERANS AFFAIRS

Rehabilitation Research and Development Service Scientific Merit Review Board; Notice of Meeting

The Department of Veterans Affairs gives notice under Public Law 92-463 (Federal Advisory Committee Act) that the Rehabilitation Research and Development Service Scientific Merit Review Board will meet from 8 a.m. until 5:30 p.m. each day as indicated below: January 27-28, 2009—Hilton Garden Inn Hotel, Washington, DC., March 2-3, 2009—Marriott Crystal Gateway, Arlington, VA.

The purpose of the Board is to review rehabilitation research and development applications for scientific and technical merit and to make recommendations to the Director, Rehabilitation Research and Development Service, regarding their funding.

The meetings will be open to the public for the January 27 and March 2 sessions from 8 a.m. to 9 a.m. for the discussion of administrative matters, the general status of the program and the administrative details of the review process. The meetings will be closed as follows for the Board's review of research and development applications: January 27 from 9 a.m. to 5:30 p.m.; January 28 from 8 a.m. to 5:30 p.m.; March 2 from 9 a.m. to 5:30 p.m.; March 3 from 8 a.m. to 5:30 p.m.

The reviews involve oral comments, discussion of site visits, staff and consultant critiques of proposed research protocols, and similar analytical documents that necessitate the consideration of the personal qualifications, performance and competence of individual research investigators. Disclosure of such information would constitute a clearly unwarranted invasion of personal privacy. Disclosure would also reveal research proposals and research underway which could lead to the loss of these projects to third parties and thereby frustrate future agency research efforts. Thus, the closing is in accordance with 5 U.S.C. 552b(c)(6), and (c)(9)(B) and the determination of the Secretary of the Department of Veterans Affairs under Sections 10(d) of Public Law 92-463 as amended by Section 5(c) of Public Law 94-409.

Those who plan to attend the open sessions should contact Terrilynn Carlton, Designated Federal Officer, Portfolio Manager, Rehabilitation Research and Development Service (122P), Department of Veterans Affairs, 810 Vermont Avenue NW., Washington, DC 20420, at (202) 461-1757.

Dated: December 16, 2008.
By direction of the Secretary.
E. Philip Riggin,
Committee Management Officer.

[FR Doc. E8-30425 Filed 12-19-08; 8:45 am]

BILLING CODE 8320-01-P